DEPARTMENT OF HEALTH AND HUMAN SERVICES

Centers for Disease Control and Prevention

[30Day-09-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: The National Electronic Injury Surveillance System—All Injury Program (NEISS-AIP) Special Study on Motor Vehicle Safety—New—National Center for Injury Prevention and Control (NCIPC), Centers for Disease Control and Prevention (CDC).

Motor vehicle injuries are the leading cause of death in the U.S. for people aged 1-34. In 2000, more than 40,000 people died as a result of motor vehicle-related injuries. In addition, motor vehicle injuries account for millions of emergency department visits annually, with many victims suffering permanent disabilities. Our goal at the National Center for Injury Prevention and Control is to reduce these deaths and disabilities. A recent priority-setting process revealed several gaps in our knowledge of motor vehicle safety that could be filled with enhancements to the NEISS All-Injury Program data collection system.

Scientific knowledge is being advanced through an expansion of the National Electronic Injury Surveillance System All Injury Program (NEISS-AIP), a collaborative effort by CDC, National Center for Injury Prevention and Control (NCIPC) and the U.S. Consumer Product Safety Commission (CPSC). The NEISS-AIP collects data about all types and external causes of non-fatal injuries and poisonings treated in U.S. hospital emergency departments (EDs). Currently, NEISS-AIP collects information only on the most severe injury. CDC proposes to expand NEISS-AIP by inserting a special screen study for one year, which will be triggered by coding motor vehicle as the cause of the injury. This special screen will permit us to collect all injury diagnoses and body parts affected (up to five), as well as restraint use and blood alcohol concentration for all motor vehicle occupants, when this information is included in the medical chart. The study will identify within that population, child occupants aged 0-12 years. A telephone follow-back survey of parents and caregivers will then be conducted to collect information about their child's seating position, restraint type, and vehicle and crash characteristics. This project will provide vital information about the type and number of injuries incurred in order to improve upon existing interventions or develop new interventions. The estimated annualized burden is 271 hours.

Survey | No. of respondents | No. of responses/respondent | Average burden/response (in hours)
NEISS Motor Vehicle Study (0-12) | 1,250 (screening) | 1 | 5/60
NEISS Motor Vehicle Study (0-12) | 1,000 (respondents) | 1 | 10/60

Dated: December 1, 2003.
Laura Yerdon Martin,
Acting Director, Executive Secretariat, Centers for Disease Control and Prevention.

[FR Doc. 03-30425 Filed 12-8-03; 8:45 am]

BILLING CODE 4163-18-P